DEPARTMENT OF COMMERCE

National Oceanic and Atmospheric Administration

50 CFR Part 660

[I.D. 050703A]

Fisheries off the West Coast States and in the Western Pacific; Pacific Coast Groundfish Fishery; Amending the Notice to Prepare a Programmatic Environmental Impact Statement for Fishing Conducted Under the Pacific Coast Groundfish Fishery Management Plan (FMP)

AGENCY: National Marine Fisheries Service (NMFS), National Oceanic and Atmospheric Administration (NOAA), Commerce.

ACTION: Notice of intent to revise the scope of a Programmatic Environmental Impact Statement (PEIS); request for written comments.

SUMMARY: On April 10, 2001, NOAA announced in the Federal Register its intention to prepare a PEIS, in accordance with the National Environmental Policy Act (NEPA), to assess the impacts of Federal management of the Pacific Coast groundfish fishery on the human environment. The proposed scope of the PEIS analysis included many issues related to the conduct of the fishery, including the effects of the groundfish fishery on essential fish habitat (EFH). As a result of public comments received during the scoping process, NMFS enhanced the description of the purpose and need for NMFS' action, clearly identified significant issues related to the proposed action, and a distinction between proposed actions related to EFH and the broader management program for Pacific groundfish. To avoid confusion as a result of this distinction, NMFS decided to prepare a separate EIS to address EFH issues. Subsequent to that decision, the Pacific Fishery Management Council (Council) and NMFS have taken a number of management actions to prevent overfishing and to rebuild overfished groundfish stocks. In addition, a number of court cases have affected the fishery regulatory processes and have required additional analysis of environmental impacts of the Federal groundfish fishery management program. NMFS believes these events and activities have influenced the purpose of and need for action and is considering revision to the scope of the alternatives and analysis. The intent of this document is to describe the rationale for revising the purpose and need for action and the scope of the analysis.

DATES: Written comments will be accepted on or before June 13, 2003. A public scoping meeting is scheduled for June 16, 2003 (see SUPPLEMENTARY INFORMATION).

ADDRESSES: Written comments on suggested alternatives and potential impacts, and any other issues or concerns related to the proposed action which should be analyzed in detail in the PEIS, as described in this scoping notice, should be sent to Robert Lohn, Administrator, Northwest Region, NMFS, 7600 Sand Point Way N.E., BIN C15700, Bldg. 1, Seattle, WA 98115 0070. Comments also may be sent via facsimile (fax) to 206 526 6736. Comments will not be accepted if submitted via e-mail or Internet.

FOR FURTHER INFORMATION CONTACT: Jim Glock, Northwest Region, NMFS, 503-231-2178; fax: 503-872-2737 and email: jim.glock@noaa.gov.

SUPPLEMENTARY INFORMATION:

Electronic Access

This Federal Register scoping notice is also available on the Government Printing Office's website at: http://www.nwr.noaa.gov/1sustfsh/gdfsh01.htm.

Background

In June 2001, NMFS concluded the initial scoping process for a PEIS on the Federal management of the Pacific Coast Groundfish Fishery and published a summary report. Scoping was initiated on April 10, 2001, through publication of a Notice of Intent (66 FR 18586). The report was initially published on the NMFS, Northwest Region website in August 2001 to provide a summary of all comments received and key issues identified during the scoping process. In February 2002 NMFS clarified the purpose and need for Federal action and revised the scope of analysis, which resulted in the preparation of two separate EISs. The PEIS was intended to be a broad analysis of the Federal fishery management program, and the additional EIS was specific to the designation of EFH and associated management measures, including measures to reduce effects of fishing on EFH. This separation was intended to improve public understanding and participation in the NEPA process, make each EIS more useful in future management decisions, and to more clearly distinguish between programmatic groundfish fishery management and specific EFH issues.

NMFS had intended the PEIS to analyze continued management of the Pacific Coast groundfish fishery pursuant to the FMP, and to consider alternative groundfish management programs. The Council prepared the original FMP and an EIS in the late 1970s, and NMFS implemented the FMP in 1982. Since then, the Council has amended the FMP 13 times and has three additional amendments in process. These amendments were in response to development of the commercial and recreational groundfish fisheries, changes in the groundfish resources, and amendments to the Magnuson-Stevens Fishery Conservation and Management Act (Magnuson-Stevens Act). NMFS initiated this PEIS to update the original EIS to reflect changes in the fishery and to evaluate the impacts of the Federal groundfish management program on the human environment, including the marine fish resources, the physical ocean environment and ecosystem, and human society.

The Council established an ad hoc Groundfish PEIS Oversight Committee (Committee) shortly after NMFS began preparation of the draft PEIS. The Committee met twice during 2002 to advise the drafting team and help develop a range of alternatives for managing the Pacific Coast groundfish fishery. The Council adopted the alternatives recommended by the Committee in October 2002. The Committee met again on April 22-23, 2003, and reviewed the status of the PEIS and the alternatives under consideration. The Committee reviewed the events leading up to initiation of the PEIS and subsequent to the initial scoping period. The consensus of the Committee was to narrow the scope of the PEIS to deal with bycatch issues. The Committee prepared a revised set of alternatives to encompass the range of approaches to resolve bycatch and incidental catch monitoring, reporting and reduction issues. The following chronology summarizes the basis for the Committee's recommendation to focus this PEIS more narrowly on bycatch.

Immediately before and since the initial scoping period (April-June, 2001), several events and activities have occurred that have substantially affected the groundfish management program. In December 2000, NMFS approved Amendment 13 to the FMP, which was designed to implement bycatch management measures to bring the FMP into compliance with the Magnuson-Stevens Act. In January 2001, NMFS determined that widow and darkblotched rockfishes were overfished, and implemented the Council's recommendations to impose broad harvest reductions to restrict the take of canary rockfish (also designated overfished) and darkblotched rockfish. Soon after the PEIS scoping comment period closed, a group of environmental organizations filed suit on NMFS' approval of Amendment 13, claiming NMFS had not considered all reasonable bycatch management and reduction alternatives. As explained below, the Court ultimately agreed with the plaintiffs.

NMFS prepared a scoping summary report and made it available in August 2001. The agency immediately began working with the Council to develop a range of alternatives for consideration and analysis in the PEIS. In January 2002, yelloweye rockfish and Pacific whiting were determined to be overfished. In February 2002, NMFS determined the analytical requirements for a programmatic EIS were different from those envisioned for EFH, and decided to prepare a separate EIS to deal exclusively with EFH issues. In April, Amendment 13 was declared invalid by Federal District Court and remanded to the agency. In June, initial rebuilding analyses for bocaccio and canary rockfish indicated extensive harvest restrictions were needed immediately in order to meet the rebuilding mandates. In response, the Council delayed adoption of the PEIS alternatives in order to concentrate on preparing an immediate response to the new scientific information. Major groundfish fishery closures were imposed mid-season, and proposals for further restrictions were developed and evaluated as part of the annual management process for the 2003 fishing year. The Council prepared an EIS in conjunction with its management recommendations (referred to as the “annual specifications”), evaluating the impacts of the proposed management measures on the biological resources and the social and economic environment. NMFS approved the Council's recommendations and issued a rule effectively closing much of the outer continental shelf from the border with Canada to the border with Mexico. Vessel catch allowances were developed through the use of a computer model that applies observed catch ratios of various depleted and healthy stocks to the available amounts of overfished stocks. In April 2003, NMFS and the Council became aware that data from the 2001-2002 Federal observer program clearly demonstrated some ratios substantially underestimated the catches of bocaccio and canary rockfish. NMFS implemented additional fishery restrictions on May 1, 2003 (68 FR 23901, May 6, 2003).

NMFS believes the most critical need at this time is improvement of the catch monitoring program and development of a system to enhance individual vessel flexibility and accountability, including opportunities and incentives to improve the selectivity of fishing operations. The current management program provides little opportunity or incentive for individuals to improve their catch selectivity (i.e., avoid overfished species). Changes to the bycatch reduction program may require revisions to the catch and bycatch reporting and monitoring systems. NMFS believes these issues should be the sole focus of the current PEIS. The current need is to focus the analysis on bycatch, incidental catch, and discard issues. A determination will be made after consulting with the Council at its June 2003 meeting.

NMFS invites written public comment on these issues until June 13. On June 16, 2003, at 7:30 p.m., NMFS will hold a public forum in conjunction with the Council meeting in Foster City, CA. Scoping documents which identify the management issues, initial alternatives, and an outline of the proposed analysis are available on request (see FOR FURTHER INFORMATION CONTACT, above) and will also be posted on the NOAA Fisheries Northwest Region website (http://www.nwr.noaa.gov/1sustfsh/gdfsh01.htm). Additional copies will be available at the scoping meeting.

Special Accommodations

These meetings are accessible to people with physical disabilities. Requests for sign language interpretation or other auxiliary aids should be directed to Carolyn Porter, 503-820-2280 (voice) or 503-820-2299 (fax), at least 5 days prior to the scheduled meeting date.

Authority: 16 U.S.C. 1801 et. seq.

Dated: May 12, 2003.
Bruce C. Morehead,
Acting Director, Office of Sustainable Fisheries, National Marine Fisheries Service.

[FR Doc. 03-12315 Filed 5-15-03; 8:45 am]

BILLING CODE 3510-22-S